DEPARTMENT OF HEALTH AND HUMAN SERVICES

Administration for Children and Families

Submission for OMB Review; Follow-Up Study of Coaching Practices in Early Care and Education Settings (OMB #0970-0515)

AGENCY: Office of Planning, Research, and Evaluation, Administration for Children and Families, HHS.

ACTION: Request for public comment.

SUMMARY: This is a primary data collection request for the Follow-up Study of Coaching Practices in Early Care and Education Settings (Follow-up SCOPE), a follow-up to the previously approved Study of Coaching Practices in Early Care and Education Settings (SCOPE) survey (OMB #0970-0515). The study aims to examine, using surveys and qualitative interviews, the practice and processes of coaching and professional development in supporting early care and education (ECE) settings in their provision of care for preschool children and their families as COVID-19 has progressed. The study will focus on both centers and family child care (FCC) homes that serve low-income children, with a primary target of settings that serve children supported by Child Care and Development Fund subsidies or a Head Start grant.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: Follow-up SCOPE will examine the practice of coaching and professional development more broadly provided in support of centers and FCC homes. The study will collect information on the following: How coaching and professional development are supporting centers and FCC homes; the perceived value and role of coaching, professional development, and quality improvement; the features of coaching and how they are delivered; and the role(s) of coaches and how they have been supported. The study will also examine the degree to which coaching has been sustained and/or changed compared to before COVID-19. In particular, there will be a focus on understanding the use of remote versus in-person strategies for coaching and professional development. This study aims to explore the implementation of coaching and professional development in ECE settings as COVID-19 has progressed. The study will not allow for statistical generalization to different sites or service populations.

Survey and interview questions will focus on the current status of these activities at the time of the data collection, changes compared to before COVID-19 began, and what has been challenging or worked well. The study will use surveys and interviews with center directors, FCC providers, and coaches. The sample frame will be comprised of respondents to the 2019 survey.

Respondents: ECE center directors, coaches, and FCC providers who responded to 2019 SCOPE surveys.

Annual Burden Estimates
[Data collection will be completed within a one-year period]
Instrument | Number of respondents (total over request period) | Number of responses per respondent (total over request period) | Avg. burden per response (in hours) | Total/annual burden (in hours)
Coach Survey (Instrument 1) | 100 | 1 | .33 | 33
Center Director Survey (Instrument 2) | 66 | 1 | .33 | 22
FCC Provider Survey (Instrument 3) | 38 | 1 | .33 | 13
Coach Interview (Instrument 4) | 12 | 1 | .75 | 9
Center Director Interview (Instrument 5) | 24 | 1 | .75 | 18
FCC Provider Interview (Instrument 6): FCC providers | 12 | 1 | .75 | 9

Estimated Total Annual Burden Hours: 104.

Authority: 42 U.S.C. 9858(a)(5), 42 U.S.C. 9835, and 42 U.S.C. 9844.

Mary B. Jones,
ACF/OPRE Certifying Officer.

[FR Doc. 2021-08614 Filed 4-23-21; 8:45 am]

BILLING CODE 4184-22-P